DEPARTMENT OF AGRICULTURE

Agricultural Marketing Service

[Document Number AMS-SC-19-0036, SC-19-330]

Revision of Three U.S. Grade Standards for Carrots

AGENCY: Agricultural Marketing Service, USDA.

ACTION: Notice.

SUMMARY: The Agricultural Marketing Service (AMS) of the Department of Agriculture (USDA) is revising the U.S. Standards for Grades of Topped Carrots, U.S. Standards for Grades of Bunched Carrots, and U.S. Standards for Grades of Carrots with Short Trimmed Tops. AMS is adding more U.S. No. 1 grades to accommodate carrots of colors other than orange, orange red, and orange scarlet. The current U.S. No. 1 grades will remain unchanged. In addition, AMS is removing the Unclassified section and renumbering sections due to the additional grades.

DATES: July 24, 2020.

FOR FURTHER INFORMATION CONTACT: David G. Horner, USDA, Specialty Crops Inspection Division, 100 Riverside Parkway, Suite 101, Fredericksburg, VA 22406, by phone (540) 361-1128; fax (540) 361-1199; or, email Dave.Horner@usda.gov. Copies of the revised U.S. Standards for Grades of Topped Carrots, U.S. Standards for Grades of Bunched Carrots, and U.S. Standards for Grades of Carrots with Short Trimmed Tops are available at http://www.regulations.gov or on the AMS website at www.ams.usda.gov/grades-standards/vegetables.

SUPPLEMENTARY INFORMATION: Section 203(c) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that are voluntary and no longer appear in the Code of Federal Regulations (60 FR 62172, December 4, 1995) are maintained by AMS at: http://www.ams.usda.gov/grades-standards. AMS is revising these U.S. Standards for Grades using the procedures that appear in part 36 of Title 7 of the Code of Federal Regulations (7 CFR part 36).

Background

AMS continually reviews all fruit and vegetable grade standards to ensure their usefulness to the industry, modernize language, and remove duplicative terminology. On December 22, 2008, AMS published a notice in the Federal Register (73 FR 78286) regarding revising the three U.S. grade standards for carrots to accommodate colors other than orange, orange red, and orange scarlet. The notice proposed revising the color section to allow carrots of any color characteristic of the variety to be graded using the standards. Also, the similar varietal characteristic requirement would have been amended to allow mixed colors and/or types when designated as a mixed or specialty pack. The industry as a whole opposed these revisions on the basis that non-orange carrots include heirloom carrots that may not have been bred for uniformity and may not have the same type of characteristics of orange carrots.

After gathering more feedback from the industry, AMS developed additional grades to accommodate other colors. For the Topped Carrots, the two new grades are U.S. No. 1 Color and U.S. No. 1 Jumbo Color. For the Bunched and Short Trimmed Carrots, the new grade is U.S. No. 1 Color. The current grades remain unchanged. The new grades are identical to the current grades except for the color requirement (the following tables summarize the revisions).

AMS spoke with several major U.S. carrot growers by telephone and emailed them a discussion paper on the proposed revisions. One major U.S. carrot grower stated that they were in favor of establishing a U.S. grade for colored carrots. No one opposed the changes.

On January 28, 2020, AMS published a notice in the Federal Register (85 FR 4913) proposing to revise the three U.S. carrot standards by adding more U.S. No. 1 grades to accommodate carrots of colors other than orange, orange red, and orange scarlet. In addition, AMS proposed to remove the Unclassified section and renumber sections due to the additional grades. The public submission period closed March 30, 2020, with 10 comments submitted.

All of the comments were submitted by the general public. Six comments supported the proposed revisions; three were beyond the scope of the notice; and one individual did not support the proposed changes due to not understanding AMS' intentions. The following addresses those misunderstandings.

• The individual stated, “The USDA already knows what constitutes a good quality carrot.” From additional remarks, the individual did not understand that AMS is part of the USDA. It is the USDA that proposed these revisions.

• The individual stated, “There are standards for carrots that are not orange, orange red, or orange scarlet.” There were no U.S. grade standards for carrots unless they were orange, orange red, or orange scarlet. For example, a maroon colored carrot could not be certified to a U.S. grade.

• The individual stated, “There are already provisions in place for color defects in carrots . . . Adding mixed colors to the standard could jeopardize the entire quality check system.” This comment implies that the commenter believes “mixed colors” refers to an individual carrot of more than one color. “Mixed colors” refers to packing carrots of different solid colors in the same package. Individual carrots are not more than one color. The industry already markets mixed color packs; however, the package could not be assigned a U.S. grade.

In addition to including the new U.S. No. 1 grades, AMS is removing the Unclassified section from the carrot standards. AMS is removing this section in all standards as they are revised because it is no longer considered necessary. The category was never a grade and only showed that no grade was applied to the lot.

Finally, some sections are renumbered due to the additional grades. The following tables summarize the revisions.

Previous | Revised | Summary
U.S. Topped Carrot Standards
§ 51.2360 U.S. Extra No. 1 | § 51.2360 U.S. Extra No. 1 | All remain unchanged.
§ 51.2361 U.S. No. 1 | § 51.2361 U.S. No. 1
§ 51.2362 U.S. No. 1 Jumbo | § 51.2362 U.S. No. 1 Jumbo
| § 51.2363 U.S. No. 1 Color and U.S. No. 1 Jumbo Color “U.S. No. 1 Color” or “U.S. No. 1 Jumbo Color” consists of carrots which meet the requirements of the U.S. No. 1 or U.S. No. 1 Jumbo grades except for fairly well colored. All roots must show good characteristic color, which means the root has a uniform characteristic color for the variety over practically the entire surface. Roots may be comingled with varieties of different colors, provided roots are of the same type. (See § 51.2365.) | U.S. No. 1 Color and U.S. No. 1 Jumbo Color grades are added to accommodate other colors. The U.S. No. 1 Color and U.S. No. 1 Jumbo Color grades are identical to the U.S. No. 1 and U.S. No. 1 Jumbo grades, except for the color requirement. The new grades ensure all grades are premium quality, provide greater flexibility, and bring the standards in line with current marketing trends.
§ 51.2363 U.S. No. 2 | § 51.2364 U.S. No. 2 | Remains the same except section number changes from 51.2363 to 51.2364. The U.S. No. 2 grade does not have any color requirements.
§ 51.2364 Unclassified “Unclassified”' consists of carrots which have not been classified in accordance with any of the foregoing grades. The term “unclassified” is not a grade within the meaning of these standards, but is provided as a designation to show that no grade has been applied to the lot | Removed | AMS is removing this section in all standards as they are revised as it is no longer considered necessary. The category was never a grade and only showed that no grade was applied to the lot.
§ 51.2365 Tolerances . . . (a) Defects . . . (2) U.S. No. 1 and U.S. No. 1 Jumbo grades. Ten percent for carrots in any lot which fail to meet the requirements of the grade: Provided, That not more than one-half of this amount, or 5 percent, shall be allowed for defects causing serious damage, including therein not more than 2 percent for carrots affected by soft rot | § 51.2365 Tolerances . . . (a) Defects . . . (2) U.S. No. 1, U.S. No. 1 Jumbo, U.S. No. 1 Color, and U.S. No. 1 Jumbo Color grades. Ten percent for carrots in any lot which fail to meet the requirements of the grade: Provided, That not more than one-half of this amount, or 5 percent, shall be allowed for defects causing serious damage, including therein not more than 2 percent for carrots affected by soft rot | The revised U.S. No. 1 Color and U.S. No. 1 Jumbo Color grades have the same tolerances as the other grades in this section, which all remain unchanged.
U.S. Bunched Carrot Standards
§ 51.2455 U.S. No. 1 | § 51.2455 U.S. No. 1 | Remains unchanged.
| § 51.2456 U.S. No. 1 Color “U.S. No. 1 Color” consists of carrots which meet the requirements of U.S. No. 1 except for fairly well colored. All roots must show good characteristic color, which means the root has a uniform characteristic color for the variety over practically the entire surface. Roots may be comingled with varieties of different colors, provided roots are of the same type | U.S. No. 1 Color grade is added to accommodate other colors. The U.S. No. 1 Color is identical to the U.S. No. 1 grade, except for the color requirement. The new grade ensures all grades are premium quality, provides greater flexibility, and brings the standards in line with current marketing trends.
§ 51.2456 U.S. Commercial | § 51.2457 U.S. Commercial | Remains the same except section number changes from 51.2456 to 51.2457.
§ 51.2457 Unclassified “Unclassified” consists of carrots which have not been classified in accordance with either of the foregoing grades. The term “unclassified” is not a grade within the meaning of these standards, but is provided as a designation to show that no grade has been applied to the lot | Removed | AMS is removing this section in all standards as they are revised as it is no longer considered necessary. The category was never a grade and only showed that no grade was applied to the lot.
U.S. Short Trimmed Carrot Standards
§ 51.2485 U.S. No. 1 | § 51.2485 U.S. No. 1 | Remains unchanged.
| § 51.2486 U.S. No. 1 Color “U.S. No. 1 Color” consists of carrots which meet the requirements of U.S. No. 1 except for fairly well colored. All roots must show good characteristic color, which means the root has a uniform characteristic color for the variety over practically the entire surface. Roots may be comingled with varieties of different colors, provided roots are of the same type | U.S. No. 1 Color grade is added to accommodate other colors. The U.S. No. 1 Color grade is identical to the U.S. No. 1 grade, except for the color requirement. The new grade ensures all grades are premium quality, provides greater flexibility, and brings the standards in line with current marketing trends.
§ 51.2486 U.S. Commercial | § 51.2487 U.S. Commercial | Remains the same except section number changes from 51.2486 to 51.2487.
§ 51.2487 Unclassified “Unclassified” consists of carrots which have not been classified in accordance with either of the foregoing grades. The term “unclassified” is not a grade within the meaning of these standards, but is provided as a designation to show that no grade has been applied to the lot | Removed | AMS is removing this section in all standards as they are revised as it is no longer considered necessary. The category was never a grade and only showed that no grade was applied to the lot.

Bruce Summers,
Administrator,Agricultural Marketing Service.

[FR Doc. 2020-12828 Filed 6-23-20; 8:45 am]

BILLING CODE P